DEPARTMENT OF ENERGY

Federal Energy Regulatory Commission

Combined Notice of Filings #2

Take notice that the Commission received the following electric rate filings:

Docket Numbers: ER22-2347-000.

Applicants: American Electric Power Service Corporation, Ohio Power Company, PJM Interconnection, L.L.C.

Description: § 205(d) Rate Filing: American Electric Power Service Corporation submits tariff filing per 35.13(a)(2)(iii: AEP submits one amended Facilities Agreement re: ILDSA, SA No. 1336 to be effective 9/12/2022.

Filed Date: 7/12/22.

Accession Number: 20220712-5079.

Comment Date: 5 p.m. ET 8/2/22.

Docket Numbers: ER22-2348-000.

Applicants: Tucson Electric Power Company.

Description: Compliance filing: Order No. 881 Compliance Filing to be effective 7/12/2025.

Filed Date: 7/12/22.

Accession Number: 20220712-5089.Comment Date: 5 p.m. ET 8/2/22.

Docket Numbers: ER22-2349-000.

Applicants: UNS Electric, Inc.

Description: Compliance filing: Order No. 881 Compliance Filing to be effective 7/12/2025.

Filed Date: 7/12/22.

Accession Number: 20220712-5093.

Comment Date: 5 p.m. ET 8/2/22.

Docket Numbers: ER22-2350-000.

Applicants: New York Independent System Operator, Inc.

Description: Compliance filing: Compliance Filing of Tariff Revisions re: Order No. 881 Transmission Line Ratings to be effective 12/31/9998.

Filed Date: 7/12/22.

Accession Number: 20220712-5098.

Comment Date: 5 p.m. ET 8/2/22.

Docket Numbers: ER22-2351-000.

Applicants: Avista Corporation.

Description: Compliance filing: Avista Corp Order No. 881 Compliance Filing to be effective 7/13/2022.

Filed Date: 7/12/22.

Accession Number: 20220712-5103.

Comment Date: 5 p.m. ET 8/2/22.

Docket Numbers: ER22-2352-000.

Applicants: Duke Energy Florida, LLC, Duke Energy Progress, LLC, Duke Energy Carolinas, LLC.

Description: Compliance filing: Duke Energy Florida, LLC submits tariff filing per 35: Compliance Filing for Order No. 881 to be effective 7/12/2025.

Filed Date: 7/12/22.

Accession Number: 20220712-5107.

Comment Date: 5 p.m. ET 8/2/22.

Docket Numbers: ER22-2353-000.

Applicants: Florida Power & Light Company.

Description: Compliance filing: FPL Order No. 881 Compliance Filing to be effective 9/11/2022.

Filed Date: 7/12/22.

Accession Number: 20220712-5111.Comment Date: 5 p.m. ET 8/2/22.

Docket Numbers: ER22-2354-000.

Applicants: GridLiance High Plains LLC.

Description: Compliance filing: GHP Order 881 Compliance Filing to be effective 9/11/2022.

Filed Date: 7/12/22.

Accession Number: 20220712-5119.

Comment Date: 5 p.m. ET 8/2/22.

Docket Numbers: ER22-2355-000.

Applicants: GridLiance Heartland LLC.

Description: Compliance filing: GLH Order 881 Compliance Filing to be effective 9/11/2022.

Filed Date: 7/12/22.

Accession Number: 20220712-5124.

Comment Date: 5 p.m. ET 8/2/22.

Docket Numbers: ER22-2356-000.

Applicants: Public Service Company of Colorado.

Description: Compliance filing: 2022-07-12 Att S—Trans Line Ratings—Order No. 881 to be effective 7/12/2025.

Filed Date: 7/12/22.

Accession Number: 20220712-5132.

Comment Date: 5 p.m. ET 8/2/22.

Docket Numbers: ER22-2357-000.

Applicants: ISO New England Inc., Eversource Energy Service Company (as agent), Cross-Sound Cable Company, LLC, New England Power Pool Participants Committee, The United Illuminating Company.

Description: Compliance filing: ISO New England Inc. submits tariff filing per 35: Amendments to ISO-NE Tariff in Compliance with Order No. 881 to be effective 9/10/2022.

Filed Date: 7/12/22.

Accession Number: 20220712-5139.

Comment Date: 5 p.m. ET 8/2/22.

Docket Numbers: ER22-2358-000.

Applicants: Versant Power.

Description: Compliance filing: Order No. 881 Compliance Filing for Versant Power, Maine Public District to be effective 7/12/2022.

Filed Date: 7/12/22.

Accession Number: 20220712-5160.

Comment Date: 5 p.m. ET 8/2/22.

Docket Numbers: ER22-2359-000.

Applicants: PJM Interconnection, L.L.C.

Description: Compliance filing: Order Nos. 881 and 881-A Compliance Filing to be effective 12/31/9998.

Filed Date: 7/12/22.

Accession Number: 20220712-5161.

Comment Date: 5 p.m. ET 8/2/22.

Docket Numbers: ER22-2360-000.

Applicants: Tri-State Generation and Transmission Association, Inc.

Description: Compliance filing: Compliance Filing to Order No. 881 to be effective 12/31/9998.

Filed Date: 7/12/22.

Accession Number: 20220712-5163.

Comment Date: 5 p.m. ET 8/2/22.

Docket Numbers: ER22-2361-000.

Applicants: Puget Sound Energy, Inc.

Description: Compliance filing: Order No. 881 Compliance Filing to be effective 7/12/2025.

Filed Date: 7/12/22.

Accession Number: 20220712-5167.

Comment Date: 5 p.m. ET 8/2/22.

Docket Numbers: ER22-2362-000.

Applicants: California Independent System Operator Corporation.

Description: § 205(d) Rate Filing: 2022-07-12 Compliance Filing—FERC Order No. 881 to be effective 12/31/9998.

Filed Date: 7/12/22.

Accession Number: 20220712-5170.

Comment Date: 5 p.m. ET 8/2/22.

Docket Numbers: ER22-2363-000.

Applicants: Midcontinent Independent System Operator, Inc.

Description: Compliance filing: 2022-07-12_Compliance Filing on Order 881 Managing Transmission Line Ratings to be effective 7/11/2025.

Filed Date: 7/12/22.

Accession Number: 20220712-5175.

Comment Date: 5 p.m. ET 8/2/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2022.
Debbie-Anne A. Reese,
Deputy Secretary.

[FR Doc. 2022-15256 Filed 7-15-22; 8:45 am]

BILLING CODE 6717-01-P